DEPARTMENT OF HOMELAND SECURITY

Coast Guard

33 CFR Part 165

[Docket No. USCG-2019-0289]

Safety Zone; Annual Events Requiring Safety Zones in the Captain of the Port Lake Michigan Zone-St. Joseph Fourth of July Fireworks

AGENCY: Coast Guard, DHS.

ACTION: Notice of enforcement of regulation.

SUMMARY: The Coast Guard will enforce a safety zone for the St. Joseph Fourth of July Fireworks display on the St. Joseph River and Lake Michigan in St. Joseph, MI from 9 p.m. through 11 p.m. on July 3, 2019. This action is necessary and intended to ensure safety of life on navigable waters immediately prior to, during, and after the fireworks display. During the enforcement period, entry into, transiting, or anchoring within the safety zone is prohibited unless authorized by the Captain of the Port Lake Michigan or a designated representative.

DATES: The regulations in 33 CFR 165.929 will be enforced for safety zone (e)(5), Table 165.929, from 9 p.m. through 11 p.m. on July 3, 2019.

FOR FURTHER INFORMATION CONTACT: If you have questions on this notice of enforcement, call or email marine event coordinator MST1 Kaleena Carpino, Prevention Department, Coast Guard Sector Lake Michigan, Milwaukee, WI; telephone (414) 747-7148, email D09-SMB-SECLakeMichigan-WWM@uscg.mil.

SUPPLEMENTARY INFORMATION: The Coast Guard will enforce the St. Joseph Fourth of July Fireworks display safety zone listed as item (e)(5) in Table 165.929 of 33 CFR 165.929 from 9 p.m. through 11:00 p.m. on July 3, 2019 on all waters of Lake Michigan and the St. Joseph River within the arc of a circle with a 1,000-foot radius from the fireworks launch site in position 42°06.867′ N, 086° 29.463′ W. (NAD 83). Entry into, transiting, or anchoring within the safety zone is prohibited unless authorized by the Captain of the Port Lake Michigan or a designated on-scene representative.

This notice of enforcement is issued under authority of 33 CFR 165.929, Safety Zones; Annual events requiring safety zones in the Captain of the Port Lake Michigan zone, and 5 U.S.C. 552(a). In addition to this publication in the Federal Register, the Coast Guard will provide the maritime community with advance notification for the enforcement of this safety zone via Broadcast Notice to Mariners or Local Notice to Mariners. The Captain of the Port Lake Michigan or a designated representative will inform the public through a Broadcast Notice to Mariners of any changes in the planned schedule. The Captain of the Port Lake Michigan or a representative may be contacted via Channel 16, VHF-FM, or via telephone (414) 747-7182.

Dated: May 2, 2019.
Thomas J. Stuhlreyer,
Captain, U.S. Coast Guard, Captain of the Port, Lake Michigan.

[FR Doc. 2019-09420 Filed 5-7-19; 8:45 am]

BILLING CODE 9110-04-P